DEPARTMENT OF THE INTERIOR

National Park Service

[NPS-WASO-NRNHL-DTS#-32899; PPWOCRADI0, PCU00RP14.R50000]

National Register of Historic Places; Notification of Pending Nominations and Related Actions

AGENCY: National Park Service, Interior.

ACTION: Notice.

SUMMARY: The National Park Service is soliciting electronic comments on the significance of properties nominated before October 16, 2021, for listing or related actions in the National Register of Historic Places.

DATES: Comments should be submitted electronically by November 15, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before October 16, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Maricopa County

Westwood Village and Estates Historic District, (Residential Subdivisions and Architecture in Central Phoenix, 1870-1963, MPS), Roughly bounded by Thomas Rd. to Fairmont Ave. between 19th to 23rd Aves. and north side of Campus Dr. between 23rd and 24th Aves., Phoenix, MP100007166

IDAHO

Twin Falls County

Brose, Robert and Augusta, Ranch, (Agricultural Resources of Twin Falls County, Idaho: 1860 to 1970 MPS), 3094 North 3800 East, Hansen vicinity, MP100007168

INDIANA

Allen County

Beechwood Historic District, Roughly bounded by Fairfield and South Wayne Aves., Pierce and Beechwood Drs., Fort Wayne, SG100007177

Marion County

Highland Golf and Country Club, 1050 West 52nd St., Indianapolis, SG100007174

Colored Knights of Pythias Castle Hall, 701, 703 North Senate and 234, 236, 238, 240, 242, 244 West Walnut Sts., Indianapolis, SG100007176

Porter County

Valparaiso University Chapel of the Resurrection, 1600 Chapel Dr., Valparaiso, SG100007172

Clifford, Patrick and Catherine, House, 106 Washington St., Valparaiso, SG100007173

St. Joseph County

Walkerton Historic District, Roughly bounded by Michigan, Indiana and Van Buren Sts., Nickle Plate RR., Walkerton, SG100007175

MASSACHUSETTS

Franklin County

Millers Falls Village Historic District, Roughly bounded by Bridge, Church, Crescent, East Main, and West Main Sts., Montague, SG100007171

OHIO

Franklin County

First Congregational Church, 444 East Broad St., Columbus, SG100007182

Shelby County

Zenas King Bowstring Bridge, Benjamin Trail, Amos Lake, Tawawa Park, Sidney, SG100007183

VIRGINIA

Amherst County

Parr, Royster C., House, 156 Parrtown Rd., Amherst vicinity, SG100007185

Fauquier County

St. James Baptist Church and Cemetery, 7353 Botha Rd., Bealeton, SG100007186

Gloucester County

Troop 111 Boy Scout Cabin, 6361 Main St., Gloucester, SG100007187

Roanoke County

Gish Mill, 350 Gus Nicks Blvd., Vinton, SG100007188

WEST VIRGINIA

Kanawha County

Five Corners Historic District, Virginia St. West, Central Ave., 6th St., Elm St., Delaware Ave., Charleston, SG100007165

Monroe County

Dry Pond School, 4680 Pine Grove Rd., Lindside vicinity, SG100007164

WISCONSIN

La Crosse County

Fire Station No. 5, 1220-1222 Denton St., La Crosse, SG100007159

Milwaukee County

Marshall & Ilsley Bank, 770 North Water St., Milwaukee, SG100007170

WYOMING

Hot Springs County

Malta Lodge No. 17 AF&AM, 521 Arapahoe St., Thermopolis, SG100007161

A request for removal has been made for the following resources:

INDIANA

Hendricks County

Kellum-Jessup-Chandler Farm, 6726 South White Lick Creek Rd., Plainfield, OT94001111

Marion County

Nickel Plate Road Steam Locomotive No. 587, Off 1st Ave., Beech Grove, OT84000313

Additional documentation has been received for the following resources:

INDIANA

Vanderburgh County

Chute, Haller T., Building (Additional Documentation), (Downtown Evansville MRA), 223 Main St., Evansville, AD82000083

Chute, Haller T., Building (Additional Documentation), (Downtown Evansville MPS), 223 Main St., Evansville, AD82000083

NEW YORK

Albany County

Renshaw, Alfred, House (Additional Documentation), (Colonie Town MRA), 33 Fiddlers Ln., Colonie, AD85002746

Nomination submitted by Federal Preservation Officer:

The State Historic Preservation Officer reviewed the following nomination and responded to the Federal Preservation Officer within 45 days of receipt of the nomination and supports listing the property in the National Register of Historic Places.

MONTANA

Broadwater County

McMaster Ranch Historic District, 6043 US 12/287 East, East Helena vicinity, SG100007169

Authority: Section 60.13 of 36 CFR part 60.

Dated: October 19, 2021.
Sherry A. Frear,
Chief, National Register of Historic Places/National Historic Landmarks Program.

[FR Doc. 2021-23521 Filed 10-28-21; 8:45 am]

BILLING CODE 4312-52-P